DEPARTMENT OF COMMERCE

Foreign-Trade Zones Board

[B-26-2016]

Foreign-Trade Zone (FTZ) 76—Bridgeport, Connecticut; Notification of Proposed Production Activity; ASML US, Inc., (Optical, Metrology, and Lithography System Modules), Newtown and Wilton, Connecticut

ASML US, Inc. (ASML), operator of Subzone 76A, submitted a notification of proposed production activity to the FTZ Board for its facilities in Newtown and Wilton, Connecticut. The notification conforming to the requirements of the regulations of the FTZ Board (15 CFR 400.22) was received on April 26, 2016.

The facilities are used for the production of advanced system modules for optical, metrology, and lithography semiconductor manufacturing equipment. Pursuant to 15 CFR 400.14(b), FTZ activity would be limited to the specific foreign-status materials and components and specific finished products described in the submitted notification (as described below) and subsequently authorized by the FTZ Board.

Production under FTZ procedures could exempt ASML from customs duty payments on the foreign status materials and components used in export production. On its domestic sales, ASML would be able to choose the duty rate during customs entry procedures that applies to advanced system modules for optical, metrology, and lithography semiconductor manufacturing equipment (free) for the foreign status inputs noted below. Customs duties also could possibly be deferred or reduced on foreign status production equipment.

The components and materials sourced from abroad include: Sample holders; tool tests; absorption tubes; silica gel; aluminum oxides; iron oxides/hydroxides; SIC powder fillers; greases; oils; hydraulic fluids; adhesives; pastes; epoxies; Loctite; special bonding adhesives; photographic plates/hardener/developer/topcoat; artificial graphite; discs; wafers; chemical elements; hardening agents; fire resistant hydraulic fluids; zero oxygen solutions; heat transfer pastes; heat conducted pastes; plastic hoses/hose sets/tubes/shrink sleeves/connection sets/sleeves/couplings/plugs/adapters/unions/connectors/adhesive tape/foil/strip/labels/tape/stickers/protective foil/cable guiding foil/insulation/sheets/foam/foam containers and seals/packaging/boxes/covers/bins/lids/cases/containers/sacks/bags/packaging/pallets/shrink sleeve/seals/timing belts/geared belts/shims/covers/spacers/thermal pads/protective caps/washers/wire end slices/cable ties/shrink sleeves/spiral wrap/zipper tubing/grommets/grommet strips/wiring ducts/front plates/guide strips/sidewalls/brackets/plugs/screws/spacers/bolts/nuts/knobs/o-rings/insulation/springs/clamps/gaskets/syringes/castors/pins/rings/shock absorbers/bushings; rubber cords/profiles/strip/gloves/gaskets/seals/o-rings/grommets/nuts/pads/bellows/profiles/washers/dampers; cases of textile materials (HTSUS Subheading 4202.99); wooden packing cases/boxes/crates/packaging/packing material; corrugated cartons/boxes; paperboard and related containers; paper labels/diagrams/designs/stickers; cellulose wadding/webbing; printed materials; technical procedures manuals; cleaning wipes; cleaning stones; lapping film; worked float glass; lens blanks; optical elements/prisms/mirrors/filters; glass petri dishes/spheres/beads/holders/viewports/covers; steel tubes/pipes/flanges/ferrules/couplings/elbows/unions/bends/connectors/couplings/adapters/bushings/nipples/plugs/sleeves/bellows/elbows/bushings/inserts/glands/coverings/flooring/platforms/cables/wires/chains/chain parts/bolts and nuts (stainless)/clamps/knobs/pins/rods/spacers/studs/rivets/rings/gaskets/dowels/caps/leaf springs/plug seals/ring seals/springs/wire/covers/spring clips/shims/rackets/plates/strips/rails/clamps/ducts/ferrules/panels/inserts/bars/studs/holders/pins/washers/handles/latches/dampers/guides/mounts/spindles/frames/balls/housings/carrying arms/lids/links/vanes/shafts/shields/restrictors/plungers/disks/blocks/nipples/alignment tools/adjuster tools/supports/straps/lock assemblies/container assemblies/bellows; copper foil/nipples/couplings/platforms/unions/plugs/banjos/sleeves/adaptors/pillars/screws/bolts/nuts/rings/spacers/plain bearings/gaskets/caps/ferrules/pads/clamps/strips; nickel couplings/rings/gaskets/dampers/inserts/plates/blocks/bushings/covers/pads/brackets/support clamps; aluminum clad/unions/adaptors/connection tubes/couplings/flanges/banjos/couplings/plates/hatches/jars/cups/covers/screws/rivets/spacers/washers/pins/nuts/plates/tool stands/brackets/caps/profiles/bars/guards/cylinders/manifolds/handles/holders/hinges/clamps/profiles/railings/carrying arms/housings/mounts/holders/flanges/plugs/frames/fittings/blocks/tube supports/plungers/strips/shields/inserts/air ducts/guide bushings/rings/studs/locking assemblies/fixtures/positioning tools/stands/vanes/struts/lock shim assemblies/spacers/adaptors/wiring ducts/identification tags; titanium inserts/clamp ties/clip filter holders/mounts/clip spacers/spring washer spacers/nut spacers/magnet pins/link arms/washer plates/blocks/flexures/removable foots; tweezers; pliers; wrenches; ratchets; allen keys; spanners; nut drivers; hex screwdriver bits and tool bits; extension shafts; hammers; screwdrivers; metal clamps; drill bits; scalpel crescent blades; razor blades; padlocks; casters; latches; adjuster knobs; handles; identification plates; vacuum pumps; fans; heat exchange units; filters; spindle traps; hoisting tools; grinding and polishing machines; computers; CPU boards; transponder readers; barcode reader assemblies; data storage units; ATCA racks; carrier boards; interface assemblies; PCI boards and cards; transceiver modules; bus adapters; Ethernet switches/transceivers/connection boxes; network cards; barcode readers; dongles; parts of automatic data processing machines; memory/processor modules; rack assemblies; print servers; vacuum pincets and tubes; vessel presses; pneumatic units/manifolds; generators; locking disk tools; top plate assemblies; polarization assemblies; duct plates; dump assemblies; air cylinders; plunger assemblies; wafer clamps; valves (pressure reducing, check, transmission, safety, relief, ball, solenoid, ballcock, regulator, angle, in-line, gate, two-way); hand-operated appliances; manifold assemblies; bearing cups/bushings/discs/spacers; camshafts; crankshafts; drive shafts; transmission shafts; plain shaft bearings; bearing housings; gear boxes; ball screws; gears; pulleys; air bearings; air spindle traps; conical gear modules; gear wheel assemblies; gaskets; ring seals/washers; electrical cabinets; low-end/high-end/advanced modules for semiconductor manufacturing equipment (optical, lithography); electric motors; electric assemblies/coils; power amplifiers/supplies/inverters; permanent magnets; Ethernet switches; encoders; tag readers; cameras; smoke sensors; printed circuit boards; electrical switches/connectors; optical fiber connectors; cable connectors; multi-point electrical apparatus; electrical boards; electrical panels/consoles/desks/cables/bundles/cabinets/bases/encoder strips/insulators/switching apparatus; sealed beams; electric lamps; electrical semiconductor photosensitive devices/signal generators; electric synchros/transducers/diffusers/interpolators/amplifiers/converters/controllers; coaxial cables/electric conductors; insulated wire; optical fiber cables; transport containers and carts; sheets/plates of polarizing material; UV safety glasses; microscopes and related parts; lasers and related parts; measuring devices and related parts; temperature sensors; flow meters/sensors; pressure sensors; multimeters; test benches; process control instruments; temperature control instruments; metal cabinets; lighting fittings; and, black thermal transfer ribbons (duty rates range from free to 20%). Inputs included in certain textile categories (classified within HTSUS Subheading 4202.99) will be admitted to Subzone 76A in privileged foreign status (19 CFR 146.41), thereby precluding inverted tariff benefits on such items.

Public comment is invited from interested parties. Submissions shall be addressed to the FTZ Board's Executive Secretary at the address below. The closing period for their receipt is June 14, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: May 2, 2016.
Andrew McGilvray,
Executive Secretary.

[FR Doc. 2016-10626 Filed 5-4-16; 8:45 am]

BILLING CODE 3510-DS-P